DEPARTMENT OF VETERANS AFFAIRS

[OMB Control No. 2900-NEW]

Agency Information Collection Activity Under OMB Review: Veteran Reimbursement Claim Form

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-NEW” in any correspondence.

SUPPLEMENTARY INFORMATION:

Authority: 44 U.S.C. 3501-3521.

Title: Veteran Reimbursement Claim Form (VA Form 10-320).

OMB Control Number: 2900-NEW.

Type of Review: New collection.

Abstract: Veterans may claim reimbursement for certain medical costs, as authorized by 38 U.S.C. 1728. The new Veteran Reimbursement Claim Form, VA Form 10-320, will be utilized by Veterans requesting reimbursement for various out-of-pocket expenses that occurred as a result of non-VA medical services that may be eligible for payment under 38 CFR 17.4025 (Veterans Community Care Program), 38 CFR 17.120 (Unauthorized), 38 CFR 17.1002 (Millennium Bill), and 38 CFR 17.1200—17.1230 (COMPACT Act). In order for VA to process and repay these expenses, Veterans must submit necessary information to support their request and justify reimbursement.

VA Form 10-320 will be used to collect information from Veterans seeking reimbursement for certain medical expenses. This claim form will be used to support payment of certain unauthorized non-VA medical services. Veterans may use this form to submit claims for reimbursement for a variety of services, such as pharmacy costs, training classes, emergent suicide care, and other medical expenses.

An agency may not conduct or sponsor, and a person is not required to respond to a collection of information unless it displays a currently valid OMB control number. The Federal Register Notice with a 60-day comment period soliciting comments on this collection of information was published at 88 FR 73942-73943 on October 27, 2023.

Affected Public: Individuals or Households.

Estimated Annual Burden: 14,283.

Estimated Average Burden per Respondent: 10 minutes.

Frequency of Response: Once annually.

Estimated Number of Respondents: 85,700.

By direction of the Secretary.
Maribel Aponte,
VA PRA Clearance Officer, Office of Enterprise and Integration, Data Governance Analytics, Department of Veterans Affairs.

[FR Doc. 2023-28807 Filed 12-29-23; 8:45 am]

BILLING CODE 8320-01-P